DEPARTMENT OF THE INTERIOR

Bureau of Land Management

[LLCA930000-L14400000-ET0000; CACA-54926]

Public Land Order No. 7904; Withdrawal of National Forest System Land for the Spanish Creek Campground; California

AGENCY: Bureau of Land Management, Interior.

ACTION: Public land order.

SUMMARY: This Public Land Order (PLO) withdraws 82.50 acres of National Forest System land from location and entry under the United States mining laws, but not from leasing under the mineral leasing laws, for a period of 20 years to protect the recreation resources at the Spanish Creek Campground located in the Plumas National Forest, California. The land has been and will remain open to such forms of disposition allowed by law on National Forest System land.

DATES: This PLO takes effect on November 22, 2021.

FOR FURTHER INFORMATION CONTACT: Heather Daniels, Bureau of Land Management (BLM) California State Office, telephone: (916) 978-4674, email: hdaniels@blm.gov; Leslie Edlund, Plumas National Forest, Mount Hough Ranger District, telephone: (530) 283-7650, email: leslie.edlund@usda.gov; or Zarreen Ali, Forest Service Regional Office, telephone: (707) 562-8964, email: zzali@fs.fed.us during regular business hours, 8:00 a.m. to 4:30 p.m. Monday through Friday, except holidays. Persons who use a telecommunication device for the deaf (TDD) may call the Federal Relay Service (FRS) at 1-800-877-8339 to contact any of the above individuals. The FRS is available 24 hours a day, 7 days a week, to leave a message or question. You will receive a reply during normal business hours.

SUPPLEMENTARY INFORMATION: The United States Forest Service will manage the lands to protect the recreation resources at the Spanish Creek Campground.

ORDER

By virtue of the authority vested in the Secretary of the Interior by Section 204 of the Federal Land Policy and Management Act of 1976, 43 U.S.C. 1714, it is ordered as follows:

1. Subject to valid existing rights, the following described lands are hereby withdrawn from location and entry under the United States mining laws, but not from leasing under the mineral or geothermal leasing laws or disposal under the Mineral Materials Act of 1947, to protect the recreational resources within the Spanish Creek Campground in Plumas National Forest.

Mount Diablo Meridian

T. 25 N., R. 9 E.,

sec 15, W1/2NE1/4SW1/4, NE1/4SW1/4SW1/4, NW1/4SE1/4SW1/4, W1/2NE1/4SE1/4SW1/4, E1/2NW1/4SW1/4, W1/2E1/2NE1/4SW1/4, S1/2SE1/4SW1/4NW1/4, and SE1/4SW1/4SW1/4NW1/4.

The area described contains 82.50 acres in Plumas County.

2. The withdrawal made by this order does not alter the applicability of those laws governing the use of National Forest System lands under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

(Authority: 43 CFR 2300)

Shannon A. Estenoz,
Assistant Secretary for Fish and Wildlife and Parks.

[FR Doc. 2021-25383 Filed 11-19-21; 8:45 am]

BILLING CODE 3411-15-P